DEPARTMENT OF COMMERCE

Bureau of the Census

National Advisory Committee on Racial, Ethnic and Other Populations

AGENCY: Bureau of the Census, Department of Commerce.

ACTION: Notice of advisory committee charter renewal.

SUMMARY: The Bureau of the Census (Census Bureau) is giving notice that the Secretary of the Department of Commerce has determined that the charter renewal of the National Advisory Committee of Racial, Ethnic, and Other Populations (NAC) is necessary and in the public interest. The renewed charter can be found on the Census Bureau's Advisory Committee Web site at the following link: https://www.census.gov/cac/.

FOR FURTHER INFORMATION CONTACT: Tara Dunlop, Chief, Advisory Committee Branch, Room 8H177, U.S. Census Bureau, Washington, DC 20233, telephone 301-763-5222, Tara.T.Dunlop@Census.gov.

SUPPLEMENTARY INFORMATION: The Census Bureau's National Advisory Committee on Racial, Ethnic, and Other Populations will advise the Director of the Census Bureau on the full range of Census Bureau programs and activities. The NAC will provide race, ethnic, and other population expertise from the following disciplines: economic, housing, demographic, socioeconomic, linguistic, technological, methodological, geographic, behavioral and operational variables affecting the cost, accuracy, and implementation of Census Bureau programs and surveys, including the decennial census.

The NAC will function solely as an advisory body and in compliance with provisions of the Federal Advisory Committee Act. Pursuant to subsection 9(c) of the Federal Advisory Committee Act, 5 U.S.C., App., as amended, copies of this charter were furnished to the Library of Congress and to the following Committees of Congress:

• Senate Committee on Commerce, Science, and Transportation

• Senate Committee on Homeland Security and Governmental Affairs

• Senate Committee on Finance

• Senate Committee on Appropriations

• House Committee on Appropriations

• House Committee on Oversight and Government Reform

Dated: April 4, 2016.
John H. Thompson,
Director, Bureau of the Census.

[FR Doc. 2016-08164 Filed 4-7-16; 8:45 am]

BILLING CODE 3510-07-P